INTERNATIONAL TRADE COMMISSION

[Investigation No. 337-TA-829]

Certain Toner Cartridges and Components Thereof; Issuance of General Exclusion Order and Cease and Desist Orders; Termination of Investigation

AGENCY: U.S. International Trade Commission.

ACTION: Notice.

SUMMARY: Notice is hereby given that the U.S. International Trade Commission has determined to issue a general exclusion order (“GEO”) and cease and desist orders (“CDOs”) in the above-captioned investigation. The investigation is terminated.

FOR FURTHER INFORMATION CONTACT: Cathy Chen, Office of the General Counsel, U.S. International Trade Commission, 500 E Street SW., Washington, DC 20436, telephone (202) 205-2392. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on February 27, 2012, based upon a complaint filed on behalf of Canon, Inc. of Tokyo, Japan; Canon U.S.A., Inc. of Lake Success, New York; and Canon Virginia, Inc. of Newport News, Virginia (collectively, “Canon”) on January 23, 2012. 77 FR 11586 (Feb. 27, 2012). The complaint alleged violations of section 337 of the Tariff Act of 1930, as amended (19 U.S.C. 1337) in the sale for importation, importation, or sale after importation of certain toner cartridges and components thereof that infringe one or more of claims 128-130, 132-133 and 139-143 of U.S. Patent Nos. 5,903,803 (“the '803 patent”) or claims 24-30 of U.S. Patent No. 6,128,454 (“the '454 patent”). The notice of investigation named thirty-four respondents.

On August 30, 2012, the ALJ issued an initial determination finding the following sixteen respondents in default: Shanghai Orink Infotech International Co., Ltd. of Shanghai, China; Orink Infotech International Co., Ltd. of Hong Kong, China; Zhuhai Rich Imaging Technology Co., Ltd. of Guangdong, China; Standard Image Co., Ltd. (a/k/a Shanghai Orink Co., Ltd.) of Shanghai, China; Zhuhai National Resources & Jingjie Imaging Products Co., Ltd. (d/b/a Huebon Co., Ltd., ­d/b/a Ink-Tank) of Guangdong, China; Standard Image USA, Inc. (d/b/a Imaging Standard Inc.) of Santa Ana, California; Printronic Corporation ­(d/b/a Printronic.com, d/b/a InkSmile.com) of Santa Ana, California; Nukote, Inc. of Plano, Texas; Acecom, Inc.—San Antonio (d/b/a InkSell.com) of San Antonio, Texas; Do It Wiser LLC ­(d/b/a Image Toner) of Marietta, Georgia; E-Max Group, Inc. (d/b/a Databazaar.com) of Miramar, Florida; IJSS Inc. (d/b/a TonerZone.com, d/b/a InkJetSuperstore.com) of Los Angeles, California; Imaging Resources LLC of Chatsworth, California; Ink Technologies Printer Supplies, LLC of Dayton, Ohio; SupplyBuy.com, Inc. of Nashville, Tennessee; and Zinyaw LLC (d/b/a TonerPirate.com) of Houston, Texas. Order No. 14 (nonreviewed October 2, 2012).

On October 10, 2012, the ALJ issued an ID granting Canon's unopposed motion to withdraw the complaint as to respondent, Nukote Internacional de Mexico, S.A. de C.V. of Neuva Leon, Mexico and thereby to terminate this respondent from the investigation. Order No. 17 (nonreviewed Nov. 14, 2012).

The remaining respondents were terminated from the investigation on the basis of consent orders: Clover Holdings, Inc.; Clover Technologies Group LLC; Clover Vietnam Co., Ltd.; Dataproducts USA, LLC; Dataproducts Imaging Solutions S.A. de C.V.; CAU Acquisition Co., LLC (d/b/a Cartridges Are Us); Atman, Inc. (d/b/a pcRUSH.com); Dexxxon Digital Storage, Inc.; Discount Office Items, Inc. and Deal Express LLC (d/b/a Discount Office Items); Green Project, Inc.; GreenLine Paper Co., Inc.; Myriad Greeyn LLC; Office World Inc. and OfficeWorld.com, Inc.; OnlineTechStores.com, Inc. (d/b/a SuppliesOutlet.com); and Virtual Imaging Products, Inc. Order No. 8 (nonreviewed July 16, 2012); Order No. 12 (nonreviewed Aug. 10, 2012); Order No. 18 (nonreviewed Nov. 14, 2012); Order No. 19 (nonreviewed Nov. 14, 2012); Order No. 20 (nonreviewed Nov. 14, 2012); Order No. 22 (nonreviewed Dec. 13, 2012). Accordingly, the only parties remaining active in this investigation are Canon and the Investigative Attorney (“IA”).

On September 21, 2012, Canon filed a motion for summary determination that it satisfies the economic prong of the domestic industry requirement. On October 4, 2012, the IA submitted a response supporting the motion. On February 26, 2013, the ALJ issued an ID (Order No. 24), granting the motion. On March 25, 2013, the Commission determined not to review the ID.

On November 16, 2012, Canon filed a motion for summary determination of violation with respect to the defaulting respondents. On February 28, 2013, the ALJ issued his final initial determination on violation and recommendation on remedy (“ID/RD”), Order No. 25, granting the motion. The ALJ recommended issuance of a general exclusion order, issuance of cease and desist orders to the eleven defaulting domestic respondents, and the imposition of a bond of 100 percent of entered value during the period of Presidential review. On April 17, 2013, the Commission issued notice of its determination not to review the ALJ's final determination on violation.

The Commission has determined that the appropriate form of relief is the following: (1) A GEO under 19 U.S.C. 1337(d)(2), prohibiting the unlicensed entry of toner cartridges and components thereof that infringe one or more of claims 128-130, 132, 133 and 139-143 of the '803 patent or claims 24-30 of the '454 patent; and (2) CDOs directed to defaulting domestic respondents Standard Image USA, Inc.; Printronic Corporation; Nukote, Inc.; Do It Wiser LLC; E-Max Group, Inc.; IJSS Inc.; Imaging Resources, LLC; Ink Technologies Printer Supplies LLC; SupplyBuy.com, Inc.; Zinyaw LLC; and Acecom Inc.—San Antonio; and defaulting foreign respondents Shanghai Orink Infotech International Co., Orink Infotech International Co., Zhuhai Rich Imaging Technology Co., Ltd; Standard Image Co., Ltd; and Zhuhai National Resources & Jingjie Imaging Products Co., Ltd.

The Commission has further determined that the public interest factors enumerated in section 337(d) and (f) (19 U.S.C. 1337(d), (f)) do not preclude issuance of the GEO and the CDOs. The Commission has determined that the bond for temporary importation during the period of Presidential review (19 U.S.C. 1337(j)) shall be in the amount of 100 percent of the entered value of the imported articles that are subject to the order. The Commission's orders were delivered to the President and the United States Trade Representative on the day of their issuance.

The authority for the Commission's determination is contained in section 337 of the Tariff Act of 1930, as amended (19 U.S.C. 1337), and in sections 210.42-50 of the Commission's Rules of Practice and Procedure (19 CFR 210.42-50).

Issued: June 28, 2013.
By order of the Commission.
Lisa R. Barton,
Acting Secretary to the Commission.

[FR Doc. 2013-16092 Filed 7-3-13; 8:45 am]

BILLING CODE 7020-02-P